DEPARTMENT OF LABOR

Employment and Training Administration

Investigation Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 3, 2004.

Interested persons are invited to submit written comments regarding the subject matter of the investigations to the Director, Division of Trade Adjustment Assistance, at the address shown below, not later than December 3, 2004.

The petitions filed in this case are available for inspection at the Office of the Director, Division of Trade Adjustment Assistance, Employment and Training Administration, U.S. Department of Labor, Room C-5311, 200 Constitution Avenue, NW., Washington, DC 20210.

Signed at Washington, DC, this 29th day of October 2004.
Timothy Sullivan,
Director, Division of Trade Adjustment Assistance.

Appendix
[Petitions instituted between 10/18/2004 and 10/29/2004]
TA-W | Subject firm (petitioners) | Location | Date of institution | Date of petition
55,810 | Honeywell/Hobbs Corp. (Wkrs) | Springfield, IL | 10/18/2004 | 10/14/2004
55,811 | Goza Manufacturing (Comp) | Fort Payne, AL | 10/18/2004 | 10/15/2004
55,812 | Circuit Images, Inc. (Comp) | Boulder, CO | 10/18/2004 | 10/18/2004
55,813 | NUVO Corporation (NPW) | Minnetonka, MN | 10/18/2004 | 10/12/2004
55,814 | United Receptacle (Wkrs) | Pottsville, PA | 10/18/2004 | 10/13/2004
55,815 | Philips Consumer Electronics (Comp) | Knoxville, TN | 10/18/2004 | 09/29/2004
55,816 | Tek Industries (Wkrs) | Fremont, NE | 10/18/2004 | 10/06/2004
55,817 | Celanese (Wkrs) | Bishop, TX | 10/18/2004 | 09/19/2004
55,818 | Vishay Dale Electronics (State) | Norfolk, NE | 10/18/2004 | 10/14/2004
55,819 | Coats American (Comp) | Old Fort, NC | 10/19/2004 | 10/19/2004
55,820 | Delphi Safety and Interior (USWA) | Vandalia, OH | 10/19/2004 | 10/18/2004
55,821 | Lear Corporation (UAW) | Hazelwood, MO | 10/19/2004 | 10/12/2004
55,822 | ZLB Behring (Formerly Aventis) (Wkrs) | Bradley, IL | 10/19/2004 | 10/18/2004
55,823 | Haldex Brake Products Corp. (Comp) | Iola, KS | 10/19/2004 | 10/18/2004
55,824 | Naturally Knits, Inc. (Comp) | Gastonia, NC | 10/19/2004 | 10/12/2004
55,825A | Jockey International, Inc. | Mt. Sterling, KY | 10/19/2004 | 10/18/2004
55,825 | Jockey International, Inc. (Comp) | Carlisle, KY | 10/19/2004 | 10/18/2004
55,826 | Dendrite International (Wkrs) | Stroudsburg, PA | 10/19/2004 | 10/11/2004
55,827 | Sanmina-SCI (Comp) | Carrolton, TX | 10/19/2004 | 10/18/2004
55,828 | Ross Mould, Inc. (USWA) | Washington, PA | 10/19/2004 | 10/12/2004
55,829 | Ex-Cell Home Fashions, Inc. (Comp) | Goldsboro, NC | 10/19/2004 | 10/14/2004
55,830 | Modine Manufacturing (Comp) | Euphoria, KS | 10/20/2004 | 10/18/2004
55,831 | Cardinal Health (State) | Springhill, UT | 10/20/2004 | 10/19/2004
55,832 | Davlyn Manufacturing Co., Inc. (Comp) | Spring City, PA | 10/20/2004 | 10/19/2004
55,833 | Brooks-Pri Automation Co. (State) | Chelmsford, MA | 10/20/2004 | 10/19/2004
55,834 | DreamTime, Inc. (State) | Santa Cruz, CA | 10/20/2004 | 10/12/2004
55,835 | ITT Industries (State) | Newton, MA | 10/20/2004 | 10/18/2004
55,836 | Frito Lay, Inc. (BCTGM) | Allen Park, MI | 10/20/2004 | 10/15/2004
55,837 | Highland Clinic, APMC (NPS) | Shreveport, LA | 10/20/2004 | 10/19/2004
55,838 | Carolinia Steel (Wkrs) | Lynchburg, VA | 10/20/2004 | 10/14/2004
55,839 | Lindsay Claire Designs, Ltd. (Comp) | Niagara Falls, NY | 10/20/2004 | 10/18/2004
55,840 | Sun Microsystems, Inc. (State) | Burlington, MA | 10/20/2004 | 10/15/2004
55,841 | Owens Corning (Wkrs) | Duncan, SC | 10/21/2004 | 10/18/2004
55,842 | Upholstry Felt (State) | Portland, OR | 10/21/2004 | 10/15/2004
55,843 | H.E. Services Co. (State) | Saginaw, MI | 10/21/2004 | 10/15/2004
55,844 | Stauffer Glove and Safety Company (Comp) | Pittston, PA | 10/22/2004 | 09/28/2004
55,845 | MAHA USA, LLC (Comp) | Pinckard, AL | 10/22/2004 | 10/15/2004
55,846 | Hewlett-Packard (Comp) | Vancouver, WA | 10/22/2004 | 10/22/2004
55,847 | Whitewater Mold, Inc. (State) | Traverse City, MI | 10/22/2004 | 10/18/2004
55,848 | Crotty Corp. (Wkrs) | Quincy, MI | 10/22/2004 | 10/20/2004
55,849 | Eaton Corporation (State) | Three Rivers, MI | 10/22/2004 | 10/11/2004
55,850 | Hill Fastener (Wkrs) | Rock Falls, IL | 10/22/2004 | 10/20/2004
55,851 | Quebecor World (Wkrs) | Effingham, IL | 10/22/2004 | 10/14/2004
55,852 | Guide Corp (State) | Monroe, LA | 10/25/2004 | 10/22/2004
55,853 | Avery Dennison (Wkrs) | Greensboro, NC | 10/25/2004 | 10/22/2004
55,854 | Amcor PET Packaging (Comp) | Merrimack, NH | 10/25/2004 | 10/22/2004
55,855 | Van De Weile—IRO, Inc. (State) | Charlotte, NC | 10/26/2004 | 09/30/2004
55,856 | Teepak, LLC (Comp) | Summerville, SC | 10/26/2004 | 10/20/2004
55,857 | Kamei Garment Co., Inc. (Wkrs) | San Francisco, CA | 10/26/2004 | 09/29/2004
55,858 | Orion Sewing Co. (Wkrs) | San Francisco, CA | 10/26/2004 | 09/29/2004
55,859 | C and H Fashions, Inc. (Wkrs) | San Francisco, CA | 10/26/2004 | 09/29/2004
55,860 | United States Ceramic Tile Co. (USWA) | East Sparta, OH | 10/26/2004 | 10/21/2004
55,861 | Northwest Pipe Co. (Wkrs) | Portland, OR | 10/26/2004 | 10/19/2004
55,862 | Piedmont home Textiles Corp. (Comp) | Walhalla, SC | 10/27/2004 | 10/22/2004
55,863 | Dorby-Frocks (UNITE) | New York, NY | 10/27/2004 | 10/27/2004
55,864 | Glass Group, Inc. (The) (Wkrs) | Park Hills, MO | 10/27/2004 | 10/02/2004
55,865 | Saint Gobain Container (State) | Maywood, CA | 10/27/2004 | 10/27/2004
55,866 | SCP Global Technologies, Inc. (Wkrs) | Boise, ID | 10/27/2004 | 10/06/2004
55,867 | Blue River Consulting, Inc. (NPS) | Denver, CO | 10/27/2004 | 10/25/2004
55,868 | TMT Picture Display Corp. of America (Comp) | Troy, OH | 10/27/2004 | 10/26/2004
55,869 | Teleplan International (Comp) | Norcross, GA | 10/27/2004 | 10/01/2004
55,870 | Philadelphia Binding and Trimming (Comp) | Philadelphia, PA | 10/27/2004 | 10/20/2004
55,871 | Merrow Machine Co. (IUE) | Newington, CT | 10/27/2004 | 10/16/2004
55,872 | Renfro Corporation (Comp) | Mr. Airy, NC | 10/27/2004 | 10/21/2004
55,873 | Santee Print Works (Comp) | Sumter, SC | 10/27/2004 | 10/25/2004
55,874A | Evansville Veneer (Comp) | High Point, NC | 10/27/2004 | 10/22/2004
55,874 | Evansville Veneer (Comp) | Chandler, IN | 10/27/2004 | 10/22/2004
55,875 | Hedstrom Corporation (Wkrs) | Hazlehurst, GA | 10/27/2004 | 10/13/2004
55,876 | Frito Lay, Inc. (BCTGM) | Beaverton, OR | 10/27/2004 | 10/22/2004
55,877 | EDS MAXTOR Subcontractor (State) | Longmont, CO | 10/27/2004 | 10/21/2004
55,878 | Jumpking (Comp) | Mesquite, TX | 10/27/2004 | 10/20/2004
55,879 | Sun Microsystems (Wkrs) | Newark, CA | 10/27/2004 | 10/25/2004
55,880 | Pitney Bowes (State) | Stamford, CT | 10/27/2004 | 10/22/2004
55,881 | Landis and Gyr, Inc. (Comp) | Lafayette, IN | 10/28/2004 | 10/27/2004
55,882 | Federal-Mogul Corporation (Comp) | Frankfort, IN | 10/28/2004 | 10/21/2004
55,883 | Hitachi Electronic Devices (USA), Inc. (Comp) | Greenville, SC | 10/28/2004 | 10/17/2004
55,884 | Jordan Fashions (UNITE) | Westbury, NY | 10/28/2004 | 10/20/2004
55,885 | Garner Automotive Electrical, Inc. (Comp) | Whiteville, TN | 10/28/2004 | 10/27/2004
55,886 | Whiting Manufacturing Co., Inc. (Comp) | Fairfield, OH | 10/28/2004 | 09/28/2004
55,887 | Woodbridge Corp. (State) | Whitmore Lake, MI | 10/29/2004 | 10/28/2004
55,888 | Trimtex Co., Inc. (Comp) | Williamsport, PA | 10/29/2004 | 10/29/2004
55,889 | The Glass Group Inc. (Wkrs) | Park Hills, MO | 10/29/2004 | 10/21/2004
55,890 | Gwinnett Medical Center (Wkrs) | Lawrenceville, GA | 10/29/2004 | 10/19/2004
55,891 | Wilsonart International Inc. (State) | Temple, TX | 10/29/2004 | 10/21/2004

[FR Doc. 04-25908 Filed 11-22-04; 8:45 am]

BILLING CODE 4510-30-M